FEDERAL COMMUNICATIONS COMMISSION

[OMB 3060-XXXX; FR ID 68459]

Information Collection Being Submitted for Review and Approval to Office of Management and Budget

Correction

In notice document 2022-01205, appearing on pages 3299-3330, in the issue of Friday, January 21, 2022 make the following correction:

On page 3299, in the second column, in the DATES section, “January 21, 2022” should read “February 22, 2022”.

[FR Doc. C1-2022-01205 Filed 1-31-22; 8:45 am]

BILLING CODE 0099-10-P